DEPARTMENT OF THE INTERIOR

Fish and Wildlife Service

50 CFR Part 17

[Docket No. FWS-HQ-ES-2025-0771; FXES1111090FEDR-256-FF09E21000]

Endangered and Threatened Wildlife and Plants; 12-Month Not-Warranted Finding for the Okinawa Woodpecker

AGENCY: Fish and Wildlife Service, Interior.

ACTION: Notification of finding.

SUMMARY: We, the U.S. Fish and Wildlife Service (Service), announce a 12-month finding on a petition to list the Okinawa woodpecker (Dendrocopos noguchii) as an endangered or threatened species under the Endangered Species Act of 1973, as amended (Act). The Okinawa woodpecker is a relatively large woodpecker endemic to northern Okinawa, Japan. After a thorough review of the best scientific and commercial data available, we find that listing the Okinawa woodpecker as an endangered, or threatened, species is not warranted at this time. However, we ask the public to submit to us, at any time, any new information relevant to the status of the Okinawa woodpecker, or its habitat.

DATES: The finding in this document was made on November 18, 2025.

ADDRESSES: A detailed description of the basis for this finding is available on the internet at https://www.regulations.gov under Docket No. FWS-HQ-ES-2025-0771. Please submit any new information, materials, comments, or questions concerning this finding to the person listed under FOR FURTHER INFORMATION CONTACT.

FOR FURTHER INFORMATION CONTACT: Rachel London, Manager, Branch of Delisting and Foreign Species, Ecological Services Program, U.S. Fish and Wildlife Service, MS: ES, 5275 Leesburg Pike, Falls Church, VA 22041-3803; telephone: 703-358-2171. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Under section 4(b)(3)(B) of the Act (16 U.S.C. 1531 et seq.), when we receive any petition that we have determined contains substantial scientific or commercial information then we must decide, within 12 months, if the petitioned action is warranted or not (12-month finding). We must make a finding that the petitioned action is: (1) not warranted; (2) warranted; or (3) warranted but precluded by other listing activity. We must publish a notification of the 12-month finding in the Federal Register.

Summary of Information Pertaining to the Five Factors

Section 4 of the Act (16 U.S.C. 1533) and the implementing regulations at part 424 of title 50 of the Code of Federal Regulations (50 CFR part 424) set forth the procedures for: (1) adding species to, (2) removing species from, or (3) reclassifying species on the Lists of Endangered and Threatened Wildlife and Plants (Lists). The Act defines “species” as including any subspecies of fish, wildlife, or plants and any distinct population segment of any species of vertebrate fish or wildlife which interbreeds when mature. The Act defines an “endangered species” as a species that is in danger of extinction throughout all, or a significant portion, of its range and a “threatened species” as a species that is likely to become an endangered species within the foreseeable future throughout all or a significant portion of its range. The Act requires that we determine whether any species is an endangered species or a threatened species because of any of the following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

These factors represent broad categories of natural or human-caused actions or conditions that could have an effect on a species' continued existence. In evaluating these actions and conditions, we look for those that may have a negative effect on individuals of the species, as well as other actions or conditions that may ameliorate any negative effects or may have positive effects.

We use the term “threat” to refer, in general, to actions or conditions that are known to, or are reasonably likely to, negatively affect individuals of a species. The term “threat” includes actions or conditions that have a direct impact on individuals (direct impacts), as well as those that affect individuals through alteration of their habitat or required resources (stressors). The term “threat” may encompass—either together or separately—the source of the action or condition or the action or condition itself.

However, the mere identification of any threat(s) does not necessarily mean that the species meets the statutory definition of an “endangered species” or a “threatened species.” In determining whether a species meets either definition, we must evaluate all identified threats by considering the species' expected response to the threats, the effects of the threats, and any actions and conditions that will ameliorate the threats at an individual, population, and species level. We evaluate each threat and its expected effects on the species, then analyze the cumulative effect of all the threats on the species as a whole. We also consider the cumulative effect of the threats along with those actions and conditions that will have positive effects on the species, such as any existing regulatory mechanisms or conservation efforts. The Secretary determines whether the species meets the definition of an “endangered species” or a “threatened species” only after conducting this cumulative analysis and describing the expected effect on the species.

The Act does not define the term “foreseeable future,” which appears in the statutory definition of “threatened species.” Our implementing regulations under 50 CFR, section 424.11(d) set forth a framework for evaluating the “foreseeable future” as a case-by-case basis. This term is further described in the 2009 Memorandum Opinion on the foreseeable future from the Department of the Interior, Office of the Solicitor (M-37021, January 16, 2009; “M-Opinion,” available online at https://www.doi.gov/sites/doi.opengov.ibmcloud.com/files/uploads/M-37021.pdf). The foreseeable future extends as far into the future as the Service can make reasonably reliable predictions about the threats to the species and the species' responses to those threats. We need not identify the foreseeable future in terms of a specific period of time. We will describe the foreseeable future on a case-by-case basis, using the best available data and taking into account considerations such as the species' life-history characteristics, threat projection timeframes, and environmental variability. In other words, the foreseeable future is the period of time over which we can make reasonably reliable predictions. “Reliable” does not mean “certain”; it means sufficient to provide a reasonable degree of confidence in the prediction, in light of the conservation purposes of the Act.

In conducting our evaluation of the five factors provided in section 4(a)(1) of the Act to determine whether the Okinawa woodpecker meets the Act's definition of an endangered species or a threatened species, we considered and thoroughly evaluated the best scientific and commercial information available regarding the past, present, and future stressors and threats. We reviewed the petition, candidate notice of review, information available in our files, and other available published and unpublished information for the species. Our evaluation may include information from recognized experts; Federal, State, and Tribal governments; academic institutions; foreign governments; private entities; and other members of the public.

In accordance with the regulations under 50 CFR, section 424.14(h)(2)(i), this document announces the not-warranted finding on a petition to list the Okinawa woodpecker. We have also elected to include a brief summary of the analysis on which this finding is based. We provide the full analysis, including the reasons and data on which the finding is based, in the decisional file for the Okinawa woodpecker. The following is a description of the documents containing this analysis.

The species assessment form for the Okinawa woodpecker contains more detailed biological information, a thorough analysis of the listing factors, a list of literature cited, and an explanation of why we determined that the species does not meet the Act's definition of an endangered species or a threatened species. To inform our status review, we completed a species status assessment (SSA) report for the species. The SSA report contains a thorough review of the taxonomy, life history, ecology, current status, and projected future status for the Okinawa woodpecker. This supporting information can be found on the internet at https://www.regulations.gov under the Docket No. FWS-HQ-ES-2025-0771.

Previous Federal Actions

On November 28, 1980, we received a petition from the International Council for Bird Preservation to list 79 bird species as endangered or threatened species under the Act. The International Council for Bird Preservation was renamed Birdlife International in 1994. On May 12, 1981, we published in the Federal Register (46 FR 26464) a 90-day finding in which we announced that the petition contained substantial information indicating that listing may be warranted for 77 of the 79 bird species, including the Okinawa woodpecker. At the time of the petition, the Okinawa woodpecker was classified as Sapheopipo noguchii. However, we recognized the Okinawa woodpecker in the genus Dendrocopos in 2009 and recognize the species as Dendrocopos noguchii and treat Sapheopipo noguchii as a synonym (74 FR 40540, August 12, 2009).

Prior to the present action, the Okinawa woodpecker has been a candidate species (warranted but precluded) since May 21, 2004 (69 FR 29353), most recently with a listing priority number of 8 (88 FR 41560), meaning that the species has imminent and moderate to low magnitude of threats. From 2007 through 2023, we addressed the status of the Okinawa woodpecker in our candidate notice of review (CNOR), with the determination that listing was warranted but precluded (see 72 FR 20184, April 23, 2007; 73 FR 44062, July 29, 2008; 74 FR 40540, August 12, 2009; 76 FR 25150, May 3, 2011; 78 FR 24604, April 25, 2013; 81 FR 71457, October 17, 2016; 84 FR 54732, October 10, 2019; 86 FR 43470, August 9, 2021; 87 FR 26152, May 3, 2022; 88 FR 41560, June 27, 2023).

Summary of Finding

The Okinawa woodpecker is a relatively large woodpecker (31-35 centimeters (cm; 12-14 inches (in)) in length). The species is generally dark brown with red tips on all feathers and white spots on the primary feathers (Bird Life International (BLI) 2024, p. 1). Males are brighter than females, with a deep-red crown and nape (Brazil 2014, p. 284). Immature birds are grayer, duller, and less red than adults (Short 1982, p. 511; Brazil 2014, p. 284). The nesting season for the Okinawa woodpecker begins in April and runs through June, with pair formation in late winter (Kotaka et al. 2021, p. 193; Short 1982, p. 512; Short 1973, p. 12). Egg laying takes place from late February to May, typically in March and April (del Hoyo 2002, p. 550).

The species is endemic to Okinawa, Japan, and currently only occurs in the northern part of the island although it was reported to occur further south prior to World War Two and as far south as Nago City until the 1980s (Ministry of the Environment (MOE) 2008, unpaginated; Kotaka 2025, pers. comm.). The northern section is generally known as the Yambaru (or Yanbaru), and it can be considered the three villages of Kunigami, Higashi, and Ogimi in the northernmost part of Okinawa Island (Yagihashi et al. 2021, p. 2251; Govt of Japan 2019, p. 34). Several forested peaks run from north to south along the central mountain ridge in northern Okinawa, and the Okinawa woodpecker primarily occurs between Mount Nishimedake and Mount Iyudake (BLI 2024, p. 2; Gorman 2014, p. 257).

The climax community of Yambaru is a subtropical, evergreen, broad-leaved forest dominated by oaks, with a dense undergrowth of broad-leaved small trees, herbs, and ferns (Azuma et al. 1997, p. 156). The Okinawa woodpecker mainly nests in mature and undisturbed subtropical evergreen broadleaf forests on mountaintops with trees that are at least 30 years old and greater than 20 cm (7.9 in) in diameter (Gorman 2014, p. 257; del Hoyo 2002, p. 550; Short 1982, p. 511). The Yambaru forest is relatively young; however, pine trees are present in its secondary forest, and the Okinawa woodpecker will use pine trees as a nesting substrate if they are large enough and suitable for nesting, but only when the trees are standing dead. Furthermore, Okinawa woodpecker will use younger forests that may contain dead trees in which exotic pest species cause die offs and cavity formations in trees. These trees are an ephemeral source that the Okinawa woodpecker has adapted to use. The availability of nest trees is a critical reproductive requirement for woodpeckers (Winkler and Christie 2010, cited in Kotaka et al. 2021, p. 193).

The Okinawa woodpecker feeds on large arthropods, notably beetle larvae, spiders, moths, and centipedes, as well as fruit, berries, seeds, acorns, and other nuts (del Hoyo 2002, pp. 549-550; Short 1982, p. 511). The foraging sites of the species indicate its dependence on mature, undisturbed forest with large dead or dying trees, accumulated fallen trees, rotting stumps, debris, and understory growth (Brazil 1991, p. 192; Short 1982, p. 511). The sexes show significant differences in their foraging niche (Kotaka et al. 2006, p. 196). Males commonly forage on the ground, sweeping away leaf litter and probing for soil-dwelling arthropods and females almost never touch soil arthropods like other species of the genus Dendrocopos (Kotaka et al. 2006, p. 196).

For populations to be resilient, the species needs healthy populations (stable to increasing abundance) occupying habitats that support key resource functions (breeding, feeding, and sheltering), sufficient distribution of populations in northern Okinawa, and that maintain connectivity and dispersal (species vagility or ability to move) between suitable habitat at sufficient levels to ensure healthy gene flow among populations.

Most forested areas in northern Okinawa are protected such that the vast majority of the species' range is within formally protected forested areas or within the Jungle Warfare Training Center (JWTC) where conservation measures are in place for the species. Most of northern Okinawa is designated as Yambaru National Park or is within a United Nations Educational, Scientific and Cultural Organization (UNESCO) World Heritage Site. Additionally, the Okinawa woodpecker is listed under Japan's Act on Conservation of Endangered Species of Wild Fauna and Flora (MOE 2020, unpaginated). The species is also designated as a National Natural Monument under the Law for the Protection of Cultural Properties (Law No. 7). These laws require review and mitigation procedures to assess potential impacts on known cultural assets. The Okinawa woodpecker is also included in the U.S. Marine Corps' Integrated Natural and Cultural Resources Management Plan that provides measures to avoid and minimize impacts of their activities to the species (DOD 2019, p. 44). These efforts to avoid and minimize impacts appear to be successful, as even with the ongoing activities to construct helipads at the JWTC in recent years, the Okinawa woodpecker population has stabilized and is likely increasing.

Recognition of the invasive Indian mongoose's (Herpestes auropunctatus) impact only became widespread after systematic control efforts began in the 2000s (Kotaka 2025, pers. comm.). Thus, concerted efforts to eradicate the mongoose from northern Okinawa are ongoing and proven beneficial for woodpecker conservation (MOE 2014, entire). In 2005, the Ministry of the Environment and Okinawa Prefecture began working together to implement a control project in response to the designation of mongooses as a specified alien species (MOE 2024, unpaginated). An eradication plan for the mongoose has been effective and has benefited the Okinawa woodpecker, resulting in an increase in the Okinawa woodpecker population. Eradication of mongoose from northern Okinawa is anticipated by 2027, although eradication is difficult, and efforts may be extended beyond 2027, However, there is a clear commitment to eradicate mongoose from northern Okinawa. Additionally, feral cats (Felis catus) are a growing concern in Okinawa. Control programs for feral cats have proven complex and less successful. There is an action plan in the three northern villages (Kunigami, Ogimi, and Higashi) and Okinawa Prefecture to address feral cats that is being strengthened, and management is gradually progressing. Even though the eradication effort for feral cats is less successful than mongoose eradication efforts, the Okinawa woodpecker population has stabilized and is likely increasing.

We have carefully assessed the best scientific and commercial data available regarding the past, present, and future threats to the Okinawa woodpecker, and we evaluated all relevant factors under the five listing factors, including any regulatory mechanisms and conservation measures addressing these threats. Since the development of our 2023 CNOR, we have new information that the species' habitat has continued to improve and recovered to the basic features of a climax community and is no longer severely fragmented. Additionally, nonnative species management has proven effective and reduced the magnitude of threat of mongoose and feral cats to the Okinawa woodpecker. Eradication is difficult; however, management plans have a clear commitment to eradicating nonnative predators in northern Okinawa for the benefit of native species, including the Okinawa woodpecker. Considering this new information regarding reduced threats to the Okinawa woodpecker, we developed a more informed picture of the current and future conditions of the species than had been available for the 2023 CNOR.

The primary threats affecting the Okinawa woodpecker's biological status now and in the foreseeable future include nonnative invasive predators (mongoose and feral cats); habitat loss, degradation, and fragmentation; and shifting forest composition and tree diversity related to effects from climate change.

After evaluating threats to the species and assessing the cumulative effect of the threats under the section 4(a)(1) factors, our analysis indicates these threats are not currently affecting populations and thus do not pose an imminent threat to the species. The Okinawa woodpecker populations are distributed in northern Okinawa within the known range of the species. As a narrow endemic, this species' range is restricted; thus, catastrophes pose an inherent risk to the species. However, threats are not of a magnitude to have large impacts on the species. We anticipate increases in the magnitude and frequency of typhoons. However, evergreen forests in northern Okinawa have high stability, the Okinawa woodpecker has adapted to use non-traditional resources for nesting and has a diverse diet, and wildlife in this region have adapted to frequent typhoons and heavy rains over a long period of time. Therefore, the number and distribution of sufficiently resilient populations are likely to continue to enable the species to withstand catastrophic events.

The adaptive capacity evaluation suggests that the species' current representation, while naturally low because it is a narrow endemic, has not been diminished. The mountaintop areas contain similar evergreen broadleaf forest habitat that the species needs for breeding, feeding, and sheltering. Okinawa woodpeckers can persist in place because the condition of the forest has steadily improved over the last three decades. The species can also shift in space because it has high vagility and can disperse within its narrow range through flight to mountaintop areas in northern Okinawa. Connectivity between mountaintop areas has increased because the habitat condition has significantly improved and is no longer severely fragmented. The current condition analysis indicates that the “3Rs”—resiliency, representation, and redundancy—are sufficient to support the overall viability of the species. Thus, after assessing the best available information, we conclude that the Okinawa woodpecker is not in danger of extinction throughout all of its range.

Our analyses use projections over the next three decades into the future and indicate that conditions are not expected to decline to a level where the species' viability is impacted. Efforts to eradicate nonnative predators have been highly successful and eradication of mongoose from northern Okinawa is anticipated by 2027, although efforts may be extended beyond 2027 with clear commitment to eradicate the mongoose from northern Okinawa. The vast majority of the species' habitat is protected in Yambaru National Park, a UNESCO World Heritage site, as well as the U.S. Marine Corps at the JWTC. These designated land uses are unlikely to change in the future. Additionally, the Okinawa woodpecker is a protected species in Okinawa and formal protection of the species and its habitat in Okinawa are likely to continue. Effects of climate change are not expected to pose increased risks in the future due to the species' resiliency and adaptability, and environmental conditions are expected to continue to meet life history requirements. Thus, in a foreseeable future of up to 30 years, we can make reasonable predictions that the Okinawa woodpecker will not be affected significantly by the threat of nonnative invasive predators; habitat loss, degradation, and fragmentation; or effects of climate change.

Given the species' current condition, substantially reduced threats, and formal protection of the species and the vast majority of its range, no reductions in resilience, redundancy, or representation are anticipated, and viability is expected to be maintained into the foreseeable future. Overall, the species is likely to maintain a small but healthy population into the future. Redundancy on mountaintops in northern Okinawa combined with the species' resiliency and ability to adapt to ongoing threats by utilizing diverse nesting sites and food resources supports the species viability into the future in the face of ongoing threats. After assessing the best scientific and commercial data available, we conclude that the Okinawa woodpecker is not likely to become endangered within the foreseeable future throughout all its range.

For the Okinawa woodpecker, we considered whether the threats or their effects on the species are greater in any portion of the species' range than in other portions such that the species is in danger of extinction now or likely to become so within the foreseeable future in that portion. The Okinawa woodpecker functions as a single population that occurs on several mountaintop areas along the central ridgeline in northern Okinawa. There is minimal information describing population units, subpopulations, or any other information to distinguish analysis units in northern Okinawa. The threats of habitat loss, degradation, and fragmentation; nonnative invasive species; and shifting forest composition and tree diversity related to effects from climate change affect the species such that it has similar extinction risk throughout its entire range. We determined that within the narrow range of the species, these threats are not posing an imminent threat to the species anywhere within the current range and there are no portions of the range in which the magnitude of threats is greater or exposure to threats differs. The population has sufficient resiliency in the near term and is distributed such that the species is at low risk from catastrophic events such as typhoons. Therefore, we found no portion of the Okinawa woodpecker's range where the biological condition of the species differs from its condition elsewhere in its range such that the status of the species in that portion differs from its status in any other portion of the species' range. As a result of our finding that the Okinawa woodpecker is not in danger of extinction or likely to become so within the foreseeable future throughout any portion of its range, we do not need to determine whether any portion of its range is “significant.” Therefore, no portion of the species' range provides a basis for determining that the species is in danger of extinction or likely to become so within the foreseeable future throughout a significant portion of its range.

After assessing the best available information, we concluded that the Okinawa woodpecker is not in danger of extinction or likely to become in danger of extinction within the foreseeable future throughout all its range or in any significant portion of its range. Therefore, we find that listing the Okinawa woodpecker as an endangered species or threatened species under the Act is not warranted. A detailed discussion of the basis for this finding can be found in the Okinawa woodpecker species assessment form, SSA report, and other supporting documents on https://www.regulations.gov under Docket No. FWS-HQ-ES-2025-0771 (see ADDRESSES, above).

Peer Review

In accordance with our joint policy on peer review published in the Federal Register on July 1, 1994 (59 FR 34270), and our August 22, 2016, memorandum updating and clarifying the role of peer review in listing actions under the Act, we solicited independent scientific reviews of the information contained in the Okinawa woodpecker SSA report from three experts and received peer review from one independent peer reviewer. Results of this structured peer review process can be found at https://www.regulations.gov under Docket No. FWS-HQ-ES-2025-0771. We incorporated the results of this review, as appropriate, into the SSA report, which is the foundation for this finding.

New Information

We request that you submit any new information concerning the taxonomy of, biology of, ecology of, status of, or stressors to the Okinawa woodpecker to the person specified above under FOR FURTHER INFORMATION CONTACT, whenever it becomes available. New information will help us monitor the species and make appropriate decisions about its conservation and status. We encourage local agencies and stakeholders to continue cooperative monitoring and conservation efforts.

References

A complete list of the references used in this petition finding is available in the species assessment form, which is available on the internet at https://www.regulations.gov under Docket No. FWS-HQ-ES-2025-0771 (see ADDRESSES, above) and upon request from the headquarters office (see FOR FURTHER INFORMATION CONTACT, above).

Authority

The authority for this action is section 4 of the Endangered Species Act of 1973, as amended (16 U.S.C. 1531 et seq.).

Brian Nesvik,
Director, U.S. Fish and Wildlife Service.

[FR Doc. 2025-20154 Filed 11-17-25; 8:45 am]

BILLING CODE 4333-15-P